DEPARTMENT OF ENERGY

Federal Energy Regulatory Commission

Combined Notice of Filings #1

Take notice that the Commission received the following electric corporate filings:

Docket Numbers: EC17-23-000.

Applicants: Oncor Electric Delivery Company LLC, NextEra Energy, Inc., EFH Merger Co., LLC, WSS Acquisition Company, T & D Equity Acquisition, LLC.

Description: Amendment to November 1, 2016 Joint Application for Approval of the Disposition of Jurisdictional Facilities Under Section 203 of the Federal Power Act of Oncor Electric Delivery Company LLC, et. al.

Filed Date: 11/14/16.

Accession Number: 20161114-5392.

Comments Due: 5 p.m. ET 12/5/16.

Docket Numbers: EC17-31-000.

Applicants: Deerfield Wind Energy, LLC.

Description: Authorization Under Section 203 of the FPA for the Disposition of Jurisdictional Facilities, and Request for Expedited Consideration and Confidential Treatment of Deerfield Wind Energy, LLC, et al.

Filed Date: 11/14/16.

Accession Number: 20161114-5386.

Comments Due: 5 p.m. ET 12/5/16.

Docket Numbers: EC17-32-000.

Applicants: American Illuminating Company, LLC.

Description: Application for Authorization under Section 203 of the FPA of American Illuminating Company, LLC.

Filed Date: 11/14/16.

Accession Number: 20161114-5389.

Comments Due: 5 p.m. ET 12/5/16.

Take notice that the Commission received the following exempt wholesale generator filings:

Docket Numbers: EG17-29-000.

Applicants: Rocksprings Val Verde Wind LLC.

Description: Notice of Self-Certification of Exempt Wholesale Generator of Rocksprings Val Verde Wind LLC.

Filed Date: 11/14/16.

Accession Number: 20161114-5024.

Comments Due: 5 p.m. ET 12/5/16.

Take notice that the Commission received the following electric rate filings:

Docket Numbers: ER10-1910-013; ER10-1911-013.

Applicants: Duquesne Light Company, Duquesne Power, LLC.

Description: Notice of Change in Status of Duquesne Light Company and Duquesne Power, LLC.

Filed Date: 11/14/16.

Accession Number: 20161114-5399.

Comments Due: 5 p.m. ET 12/5/16.

Docket Numbers: ER10-2805-006; ER10-2289-008; ER10-2564-008; ER10-2600-008

Applicants: Central Hudson Gas & Electric Corporation, Tucson Electric Power Company, UNS Electric, Inc., UniSource Energy Development Company.

Description: Notice of Non-Material Change in Status of Fortis MBR Entities.

Filed Date: 11/14/16.

Accession Number: 20161114-5381.

Comments Due: 5 p.m. ET 12/5/16.

Docket Numbers: ER16-2703-000.

Applicants: Deerfield Wind Energy, LLC.

Description: Second Supplement to September 29, 2016 Deerfield Wind Energy, LLC tariff filing.

Filed Date: 11/14/16.

Accession Number: 20161114-5380.

Comments Due: 5 p.m. ET 11/25/16.

Docket Numbers: ER17-350-000.

Applicants: ITC Lake Erie Connector, LLC.

Description: Request for Order Confirming Negotiated Rate Authority of ITC Lake Erie Connector LLC.

Filed Date: 11/14/16.

Accession Number: 20161114-5385.

Comments Due: 5 p.m. ET 12/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2016.
Nathaniel J. Davis, Sr.,
Deputy Secretary.

[FR Doc. 2016-28078 Filed 11-21-16; 8:45 am]

BILLING CODE 6717-01-P